FEDERAL COMMUNICATIONS COMMISSION

[OMB 3060-0770; FR ID 304019]

Information Collection Being Reviewed by the Federal Communications Commission Under Delegated Authority

AGENCY: Federal Communications Commission.

ACTION: Notice and request for comments.

SUMMARY: As part of its continuing effort to reduce paperwork burdens, and as required by the Paperwork Reduction Act (PRA) of 1995, the Federal Communications Commission (FCC or the Commission) invites the general public and other Federal agencies to take this opportunity to comment on the following information collection. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid control number. No person shall be subject to any penalty for failing to comply with a collection of information subject to the PRA that does not display a valid Office of Management and Budget (OMB) control number.

DATES: Written PRA comments should be submitted on or before September 22, 2025. If you anticipate that you will be submitting comments, but find it difficult to do so within the period of time allowed by this notice, you should advise the contact listed below as soon as possible.

ADDRESSES: Direct all PRA comments to Nicole Ongele, FCC, via email PRA@fcc.gov and to nicole.ongele@fcc.gov.

FOR FURTHER INFORMATION CONTACT: For additional information about the information collection, contact Nicole Ongele, (202) 418-2991.

SUPPLEMENTARY INFORMATION:

OMB Control Number: 3060-0770.

Title: Sections 61.49 and 69.4, Price Cap Performance Review for Local Exchange Carriers CC Docket 94-1, FCC 99-206 (New Services).

Form Number: N/A.

Type of Review: Extension of a currently approved collection.

Respondents: Business or other for-profit.

Number of Respondents and Responses: 1 respondent; 1 response.

Estimated Time per Response: 30 hours.

Frequency of Response: On occasion reporting requirements.

Obligation to Respond: Required to obtain or retain benefits. Statutory authority for this information collection is Sections 1, 4(i), 4(j), 201-205, 303(r), and 403 of the Communications Act of 1934, as amended, 47 U.S.C. 151, 154(i), 154(j), 201-205, 303(r), 403, and 5 U.S.C. 553.

Total Annual Burden: 30 hours.

Total Annual Cost: $1,040.

Needs and Uses: In the 1999 Fifth Report and Order (Pricing Flexibility Order), 64 FR 51280, the Commission modified the rules that govern the provision of interstate access services by those price cap incumbent local exchange carriers (price cap LECs) subject to price regulation to advance the pro-competitive, de-regulatory national policies embodied in the Telecommunications Act of 1996. The Commission, among other things, granted immediate pricing flexibility to price cap LECs in the form of streamlined introduction of new switched access services without prior approval or cost support information. The Commission modified its rules to eliminate the public interest showing previously required by section 69.4(g) of the Commission's rules and to enable price cap LECs to establish any new switched access rate element, in addition to the access rate elements currently required by section 69.49. The Commission also eliminated the new services test in sections 61.49(f) and (g) for all new switched access services except for loop-based switched access services.

Federal Communications Commission.
Marlene Dortch,
Secretary, Office of the Secretary.

[FR Doc. 2025-13768 Filed 7-21-25; 8:45 am]

BILLING CODE 6712-01-P